OFFICE OF PERSONNEL MANAGEMENT

Privacy Act of 1974; System of Records

AGENCY: U.S. Office of Personnel Management, Healthcare and Insurance.

ACTION: Notice of modified system of records.

SUMMARY: In accordance with the Privacy Act of 1974, the Office of Personnel Management (OPM) proposes to modify the current system of records titled “OPM/Central-23 FEHB Program Enrollment Records.” This system of records contains information about enrollees and their family members, who are or have been covered under the Federal Employees Health Benefits (FEHB) Program. The modification is necessary to add categories of records and record source categories to the system of records based upon information exchange necessary to implement the Postal Service Health Benefits (PSHB) Program and meet requirements under the Postal Service Reform Act of 2022 (PSRA). The modification is also necessary to clarify in the Purposes section that references in the system of records to the “FEHB Program” or “FEHB” will encompass the PSHB Program, a separate program within the FEHB Program. In addition, OPM is taking this opportunity to clarify two existing routine uses and make a technical correction to the Administrative, Technical, and Physical Safeguards section. We have also updated the policies and practices for retention and disposal of records to reflect that a new schedule that will incorporate Postal Service records is currently under review by the National Archives and Records Administration (NARA).

DATES: Please submit comments on or before October 7, 2024. This new system is effective upon today's publication in the Federal Register, with the exception of new or modified routine uses, which are effective October 11, 2024.

ADDRESSES: You may submit written comments by one of the following methods:

• Federal Rulemaking Portal: https://www.regulations.gov. Follow the instructions for submitting comments. All submissions received must include the agency name and docket number for this Federal Register document. The general policy for comments and other submissions from members of the public is to make these submissions available for public viewing at https://www.regulations.gov as they are received without change, including any personal identifiers or contact information.

• Mail: Padma Babubhai Shah, Senior Policy Analyst, Healthcare and Insurance, Office of Personnel Management, Suite 3468, 1900 E Street NW, Washington, DC 20415.

FOR FURTHER INFORMATION CONTACT: For general questions, please contact Padma Babubhai Shah, Senior Policy Analyst, 202-606-4056. For privacy questions, please contact Kirsten J. Moncada, Senior Agency Official for Privacy, privacy@opm.gov.

SUPPLEMENTARY INFORMATION: In accordance with the Privacy Act of 1974, 5 U.S.C. 552a, the Office of Personnel Management proposes to modify a system of records titled “OPM/Central-23, FEHB Program Enrollment Records.” This system of records supports OPM's administration of the Federal Employees Health Benefits (FEHB) Program and contains information about enrollees and their family members, who are or have been covered under the FEHB Program. The records are used for business processes related to eligibility verification, enrollment transactions, enrollment reconciliation, and premium collection; and to support the evaluation of the effectiveness of the FEHB Program through statistical analysis, policy planning, and reporting. To effectuate these purposes, OPM also uses contracts and interagency agreements.

Established in 1960 through the Federal Employees Health Benefits Act of 1959, 5 U.S.C. 8901 et seq., the FEHB Program is the largest employer-sponsored group health insurance program in the world, covering over 8 million individuals. Covered individuals, as defined in 5 CFR 890.101, include employees of the Federal government, annuitants, members of their families, former spouses, and miscellaneous groups, enumerated in 5 U.S.C. 8901; United States Postal Service employees and annuitants, pursuant to 39 U.S.C. 1005; tribal employees, pursuant to 25 U.S.C. 1647b; and separated employees and former dependents who are eligible for Temporary Continuation of Coverage under 5 U.S.C. 8905a.

Section 101 of the Postal Service Reform Act of 2022 (PSRA) added new section 8903c to chapter 89 of title 5, United States Code. The statute directs OPM to establish the Postal Service Health Benefits (PSHB) Program as a new, separate program within the FEHB Program. Beginning in 2025, Postal Service employees, Postal Service annuitants, and their eligible family members will obtain health benefits coverage through PSHB plans. Accordingly, OPM proposes to modify the Purpose section of this system of records notice to indicate that references to the “FEHB Program” or “FEHB” (e.g., FEHB enrollment code) include the “PSHB Program” or “PSHB.” Administrative actions associated with the launch of the PSHB Program will be required prior to January 1, 2025. For this reason, upon the effective date of this notice, references to the “FEHB Program” or “FEHB” will include the “PSHB Program” or “PSHB.”

As part of implementing the PSHB Program, OPM will be required to exchange information with other federal agencies to determine whether certain Postal Service annuitants and their family members are subject to the requirement that they enroll in Medicare Part B to enroll or continue enrollment in a PSHB plan and, if so, whether they can establish one of the exceptions to this requirement. These requirements necessitate the addition of categories of records and record source categories to this system of records.

Accordingly, OPM proposes to modify this system of records to add two categories of records: “gg. Information related to enrollment in health care benefits provided by the Department of Veterans Affairs” and “hh. Information related to eligibility for health services from the Indian Health Service.” These record categories are being added because the information in both categories may be collected to establish whether certain Postal Service annuitants and their family members can establish an exception to the Medicare Part B enrollment requirement in order to enroll or continue enrollment in a PSHB plan. In addition, OPM proposes to modify this system of records to expand record source categories to include the Social Security Administration and other federal agencies as information from other agencies may need to be collected to establish the eligibility of Postal Service employees, annuitants, and their family members to enroll or continue enrollment in a PSHB plan.

A technical correction has been made to the “ADMINISTRATIVE, TECHNICAL, AND PHYSICAL SAFEGUARDS” section. Specifically, this section now clarifies that OPM security measures are in compliance with the both the Federal Information Security Modernization Act of 2002 and the Federal Information Security Modernization Act of 2014, which amended the 2002 law. Previously, there was a citation only to the 2014 law. Additionally, previous routine uses (a) and (b) have been revised to more clearly describe the disclosures covered—the disclosures covered by previous routine use (a) will now be covered in routine uses (a) and (b); the disclosures covered by previous routine use (b) will now be covered in routine use (c). The original routine uses will receive a new letter designation to accommodate this change.

The policies and practices for retention and disposal of records have been updated to reflect that a new schedule that will incorporate Postal Service records is currently under review.

In accordance with 5 U.S.C. 552a(r), OPM has provided a report of this modified system of records to the Office of Management and Budget and to Congress. This modified system of records will be included in OPM's inventory of record systems.

U.S. Office of Personnel Management.
Stephen D. Hickman,
Federal Register Liaison.

SYSTEM NAME AND NUMBER:

FEHB Program Enrollment Records, OPM/Central-23

SECURITY CLASSIFICATION:

Unclassified.

SYSTEM LOCATION:

Healthcare and Insurance, Office of Personnel Management, 1900 E Street NW, Washington, DC 20415, is responsible for this system of records. The records are maintained at OPM's data center in Macon, Georgia, and through an interagency agreement with the U.S. Department of Agriculture's National Finance Center in New Orleans, Louisiana.

SYSTEM MANAGER(S):

Associate Director, Healthcare and Insurance, Office of Personnel Management, 1900 E Street NW, Washington, DC 20415.

AUTHORITY FOR MAINTENANCE OF THE SYSTEM:

5 U.S.C. chapter 89, Health Insurance; 25 U.S.C. 1647b, (Tribal) Access to Federal Insurance; 39 U.S.C. 1005, Applicability of Laws Relating to Federal Employees; and 5 CFR part 890.

PURPOSE(S) OF THE SYSTEM:

The purpose of this system of records is to support the administration of the Federal Employees Health Benefits (FEHB) Program, including business processes related to eligibility verification, enrollment transactions, enrollment reconciliation, and premium collection; and to support the evaluation of the effectiveness of the FEHB Program through auditing, statistical analysis, policy planning, and reporting. To effectuate these purposes, OPM also uses contracts and interagency agreements. References to the “FEHB Program” or “FEHB” encompass the Postal Service Health Benefits Program (“PSHB Program” or “PSHB”), a separate program within the FEHB Program.

CATEGORIES OF INDIVIDUALS COVERED BY THE SYSTEM:

Enrollees (defined in 5 CFR 890.101) and their family members, who are or have been covered under the FEHB Program.

CATEGORIES OF RECORDS IN THE SYSTEM:

a. Full name, including any former names;

b. Social Security number, or other current or previous unique identification number(s);

c. Date of birth;

d. Date of death;

e. Sex;

f. Relationship code of any covered family member(s) to enrollee;

g. Mailing address;

h. Indicator for non-deliverable mailing address;

i. Date mailing address information was last processed;

j. Marital status;

k. Email address;

l. Enrollee's employment status;

m. Enrollee's employing office, including name and Personnel Office Identifier;

n. Enrollee's payroll office number;

o. Event code indicating the qualifying life event which permitted enrollment, a change in enrollment, or enrollment cancellation;

p. Transaction code indicating the most recent action that resulted in the creation or change of enrollment;

q. Date enrollment record was processed;

r. FEHB enrollment code, indicating plan, plan option, and enrollment type (Self Only, Self Plus One, or Self and Family);

s. Group insurance account identifier;

t. Effective date of FEHB coverage and any change in coverage;

u. Agency payroll office effective date;

v. Agency payroll office enrollment match code;

w. Code indicating the reason a family member's eligibility became effective;

x. End date of FEHB coverage, including possible 31-day extension;

y. Reason code for FEHB coverage termination;

z. Retirement claim number;

aa. Date employee retired;

bb. Date enrollee is reemployed by the Federal government;

cc. Medicare status, forms of Medicare coverage, and Medicare Beneficiary Identifier (formerly Medicare Claim Number);

dd. Other insurance, including name and policy number;

ee. Information related to tribal bank accounts in which FEHB premiums are maintained for monthly withdrawal;

ff. Information necessary to verify family member eligibility, including but not limited to marriage certificates, birth certificates, and other information as set forth in OPM guidance;

gg. Information related to enrollment in health care benefits provided by the Department of Veterans Affairs; and

hh. Information related to eligibility for health services from the Indian Health Service.

RECORD SOURCE CATEGORIES:

Records are obtained from employing agencies and retirement systems, FEHB Carriers, shared service centers, the Centers for Medicare & Medicaid Services, the Social Security Administration and other federal agencies, Official Personnel Folders, retirement records and indirectly from individuals who participate in the FEHB Program. Note: With the establishment of this SORN, although enrollment records may continue to be maintained in other systems of records, Central-23 becomes the official, first line source for enrollment records.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3) as follows:

a. In an appropriate proceeding before a court, grand jury, or administrative or adjudicative body, when OPM or another agency representing OPM determines that the records are relevant and necessary to the proceeding; or in an appropriate proceeding before an administrative or adjudicative body when the adjudicator determines the records to be relevant to the proceeding.

b. To the Department of Justice when (a) OPM, or any component thereof; (b) any OPM employee in their official capacity; (c) any OPM employee in their individual capacity where the Department of Justice has agreed to represent the employee; or (d) the United States, where OPM determines that litigation is likely to affect OPM or any of its components, is a party to litigation or has an interest in such litigation, and the use of such records by the Department of Justice is deemed by OPM to be relevant and necessary to the litigation.

c. Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

d. To a member of Congress from the record of an individual in response to an inquiry made at the request of the individual to whom the record pertains.

e. To the National Archives and Records Administration (NARA) for records management inspections being conducted under the authority of 44 U.S.C. 2904 and 2906.

f. To appropriate agencies, entities, and persons when (1) OPM suspects or has confirmed that there has been a breach of the system of records, (2) OPM has determined that as a result of the suspected or confirmed breach there is a risk of harm to individuals, OPM (including its information systems, programs, and operations), the Federal Government, or national security; and (3) the disclosure made to such agencies, entities, and persons is reasonably necessary to assist in connection with OPM's efforts to respond to the suspected or confirmed breach or to prevent, minimize, or remedy such harm.

g. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

h. To contractors, grantees, experts, consultants, or volunteers performing or working on a contract, service, grant, cooperative agreement, or other assignment for OPM when necessary to accomplish an agency function related to this system of records. Individuals provided information under this routine use are subject to the same Privacy Act requirements and limitations on disclosure as are applicable to OPM employees.

i. To employing offices, shared service centers, and FEHB Carriers, information necessary to identify, reconcile, and audit enrollment in a plan; to verify eligibility for or coverage under the FEHB Program; to verify eligibility for payment of a claim for health benefits; and to carry out coordination of benefits.

j. To any source, including employing offices, from which additional information is requested relevant to OPM determination on an individual's eligibility for or enrollment in the FEHB Program, to the extent necessary to identify the individual and the type of information requested.

k. To an official of another Federal agency, information needed in the performance of official duties related to reconciling or reconstructing data files; compiling descriptive statistics; and/or making analytical studies to support the function for which the records were collected and maintained.

l. To a spouse or dependent child (or court-appointed guardian thereof) of an FEHB enrollee whether the enrollee has made enrollment changes, including changing FEHB plans; cancelling or suspending FEHB enrollment; and changing from a Self and Family to a Self Plus One or Self Only health benefits enrollment, or from a Self Plus One to Self Only health benefits enrollment.

m. To provide an official of another Federal agency information needed in the performance of official duties related to Federal employee health benefits counseling, customer service, or operational readiness.

n. To the following recipients, information needed to conduct an analytical study of benefits being paid under the FEHB Program or the recipient's benefits program(s): Federal, State, or local agencies.

o. To the following recipients, information needed to adjudicate a claim for benefits under the FEHB Program or the recipient's benefits program(s): Federal, State, or local agencies.

p. To another Federal or non-Federal entity, information needed to verify enrollment information through the use of computer matching agreements under the Privacy Act of 1974, as amended (5 U.S.C. 552a).

POLICIES AND PRACTICES FOR STORAGE OF RECORDS:

These records in this system of records are stored electronically on OPM's servers hosted at an OPM data center and at the U.S. Department of Agriculture's National Finance Center. Access to the electronic systems is restricted to authorized users with a need to know.

POLICIES AND PRACTICES FOR RETRIEVAL OF RECORDS:

These records in this system of records are retrieved primarily by name and Social Security number but may be retrieved by any personal identifier.

POLICIES AND PRACTICES FOR RETENTION AND DISPOSAL OF RECORDS:

The current records retention schedule, which covers health benefit enrollments, is numbered DAA-0478-2017-0006. A new schedule, which will also include PSHB records, is currently under review by NARA and will supersede the existing schedule. Until that occurs, all records not governed by DAA-0478-2017-0006 will be treated as permanent.

ADMINISTRATIVE, TECHNICAL, AND PHYSICAL SAFEGUARDS:

Records in this system are protected from unauthorized access and misuse through various administrative, technical, and physical security measures. OPM security measures are in compliance with the Federal Information Security Modernization Act of 2002, as amended by the Federal Information Security Modernization Act of 2014, associated OMB policies, and applicable standards and guidance from the National Institute of Standards and Technology (NIST).

RECORD ACCESS PROCEDURES:

Individuals seeking notification of and access to their records in this system of records may do so by submitting a request in writing to the Office of Personnel Management, Office of the Executive Secretariat, Privacy, and Information Management—FOIA, 1900 E Street NW, Washington, DC 20415-7900 or by emailing foia@opm.gov; ATTN: Healthcare and Insurance. Individuals must furnish the following information for their records to be located:

1. Full name, including any former name.

2. Date of birth.

3. Social Security Number.

4. Name and address of employing agency or retirement system.

5. Reasonable specification of the requested information.

6. The address to which the information should be sent.

7. Signature.

Individuals requesting access must also comply with OPM's Privacy Act regulations regarding verification of identity and access to records (5 CFR part 297).

Enrollees who request access to their records will have access to the entirety of their record, to include information about all covered individuals who are part of their enrollment record. Family members of the enrollee who request access to their records have access only to their own information and not to that of the enrollee or other covered family members.

CONTESTING RECORD PROCEDURES:

Individuals wishing to request amendment of records about them may do so by writing to the Office of Personnel Management, Office of the Executive Secretariat, Privacy, and Information Management—FOIA, 1900 E Street NW, Washington, DC 20415-7900 or by emailing foia@opm.gov; ATTN: Healthcare and Insurance. Requests for amendment of records should include the words “PRIVACY ACT AMENDMENT REQUEST” in capital letters at the top of the request letter; if emailed include those words in the subject line. Individuals must furnish the following information for their records to be located:

1. Full name, including any former name, and address.

2. Date of birth.

3. Social Security Number.

4. Name and address of employing agency or retirement system.

5. Precise identification of the information to be amended.

6. Signature.

Individuals requesting amendment must also comply with OPM's Privacy Act regulations regarding verification of identity and access to records (5 CFR part 297).

OPM may refer amendment requests to employing agencies, retirement systems, and FEHB Carriers because they may be the ultimate source of FEHB enrollment records.

NOTIFICATION PROCEDURES:

See “Record Access Procedure.”

EXEMPTIONS PROMULGATED FOR THE SYSTEM:

None.

HISTORY:

OPM/Central-23, “FEHB Program Enrollment Records, 86 FR 6377 (January 21, 2021), 87 FR 5874 (February 2, 2022).”

[FR Doc. 2024-20061 Filed 9-5-24; 8:45 am]

BILLING CODE 6325-67-P